DEPARTMENT OF HEALTH AND HUMAN SERVICES

Centers for Disease Control and Prevention

World Trade Center Health Program Scientific/Technical Advisory Committee (WTCHP STAC or Advisory Committee), National Institute for Occupational Safety and Health (NIOSH)

Correction

This notice was published in the Federal Register on January 31, 2012, Volume 77, Number 20, pages 4820-4821. The meeting times and public comment times should read as follows:

Committee Public Meeting Times and Dates: (All times are Eastern Standard Time).

12 p.m.-5 p.m., February 15, 2012, and

8:30 a.m.-4:00 p.m., February 16, 2012.

Public Comment Times and Dates: (All times are Eastern Standard Time.)

3:45 p.m.-4:45 p.m., on February 15, 2012, and

8:45 a.m.-10:45 a.m., on February 16, 2012.

Contact Person for More Information: Paul J. Middendorf, Ph.D., Designated Federal Officer, NIOSH, CDC, 4676 Columbia Parkway, Mail Stop R-45, Cincinnati, Ohio 45226, Telephone: 1 (888) 982-4748; email: wtc-stac@cdc.gov.

The Director, Management Analysis and Services Office, has been delegated the authority to sign Federal Register Notices pertaining to announcements of meetings and other committee management activities, for both the Centers for Disease Control and Prevention, and the Agency for Toxic Substances and Disease Registry.

Dated: February 8, 2012.
Elaine L. Baker,
Director, Management Analysis and Services Office, Centers for Disease Control and Prevention.

[FR Doc. 2012-3487 Filed 2-14-12; 8:45 am]

BILLING CODE 4163-18-P